DEPARTMENT OF COMMERCE

International Trade Administration

[A-533-863]

Certain Corrosion-Resistant Steel Products From India: Final Results of Antidumping Duty Administrative Review and Final Determination of No Shipments; 2017-2018

AGENCY: Enforcement and Compliance, International Trade Administration, Department of Commerce.

SUMMARY: The Department of Commerce (Commerce) determines that certain corrosion-resistant steel products (CORE) from India are being, or are likely to be sold, at less than normal value during the period of review (POR) July 1, 2017, through June 30, 2018.

DATES: Applicable June 10, 2019.

FOR FURTHER INFORMATION CONTACT: Rachel Greenberg or Kabir Archuletta, AD/CVD Operations, Office V, Enforcement and Compliance, International Trade Administration, U.S. Department of Commerce, 1401 Constitution Avenue NW, Washington, DC 20230; telephone: (202) 482-0652 or (202) 482-2593, respectively.

SUPPLEMENTARY INFORMATION:

Background

Commerce published the Preliminary Results of this administrative review on CORE from India on February 1, 2019.¹ We invited interested parties to comment on the Preliminary Results. On March 4, 2019, Commerce received a timely-filed case brief from Uttam Galva Steels Limited (Uttam Galva). On March 11, 2019, Commerce received a timely-filed rebuttal brief from California Steel Industries and Steel Dynamics Inc. (collectively, the petitioners). Commerce conducted this administrative review of the antidumping duty order on CORE from India in accordance with sections 751(a)(1) and (2) of the Tariff Act of 1930, as amended (the Act).²

¹ See Certain Corrosion-Resistant Steel Products from India: Preliminary Results of Antidumping Duty Administrative Review; 2017-2018, 84 FR 1061 (February 1, 2019) (Preliminary Results).

² See Certain Corrosion-Resistant Steel Products from India, Italy, the People's Republic of China, the Republic of Korea, and Taiwan: Amended Final Affirmative Antidumping Determination for India and Taiwan, and Antidumping Duty Orders, 81 FR 48390 (July 25, 2016) (Order).

Commerce exercised its discretion to toll all deadlines affected by the partial federal government closure from December 22, 2018, through the resumption of operations on January 29, 2019.³ If the new deadline falls on a non-business day, in accordance with Commerce's practice, the deadline will become the next business day. The revised deadline for the final results is now June 3, 2019.

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The product covered by this review is CORE from India. For a full description of the scope, see the Issues and Decision Memorandum dated concurrently with, and hereby adopted by, this notice.⁴

⁴ See Memorandum, “Certain Corrosion-Resistant Steel Products from India: Issues and Decision Memorandum for the Final Results of the Antidumping Duty Administrative Review; 2017-2018,” dated concurrently with, and hereby adopted by, this notice (Issues and Decision Memorandum).

Final Determination of No Shipments

In the Preliminary Results, we found that JSW Steel Ltd. and JSW Coated Products Ltd. (collectively, JSW), had no shipments during the POR. Following the publication of the Preliminary Results, we received no comments from interested parties regarding this company, nor has any party submitted record evidence which would call this finding into question. Therefore, for the final results, we continue to find that JSW had no shipments during the POR. Accordingly, consistent with Commerce's practice, we intend to instruct U.S. Customs and Border Protection (CBP) to liquidate any existing entries of merchandise produced by JSW, but exported by other parties without their own rate, at the all-others rate.⁵

⁵ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Analysis of Comments Received

All issues raised in the case and rebuttal briefs by parties to this administrative review are addressed in the Issues and Decision Memorandum.⁶ A list of the issues that parties raised and to which we responded is attached to this notice as an Appendix. The Issues and Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Issues and Decision Memorandum can be accessed directly on the internet at http://enforcement.trade.gov/frn/index.html. The signed Issues and Decision Memorandum and the electronic versions of the Issues and Decision Memorandum are identical in content.

⁶ See Issues and Decision Memorandum.

Changes Since the Preliminary Results

Based on our analysis of the record and comments received from interested parties regarding our Preliminary Results, Commerce has made no changes to the Preliminary Results. As stated in the Preliminary Results, we found that the application of facts otherwise available with adverse inferences, for Uttam Galva's dumping margin, pursuant to sections 776(a) and (b) of the Act, was warranted. For further discussion, see the Issues and Decision Memorandum.

Final Results of the Review

We determine that, for the period of July 1, 2017, through June 30, 2018, the following weighted-average dumping margin exists:

Exporter/producer | Weighted- average dumping margin (percent)
Uttam Galva Steels Limited ⁷ | 71.09

Disclosure

Normally, Commerce discloses to interested parties the calculations performed in connection with the final determination within five days after the date of any public announcement, in accordance with 19 CFR 351.224(b). However, the final dumping margin assigned to Uttam Galva is based on adverse facts available with adverse inferences. Accordingly, no disclosure of calculations is necessary for these final results.

⁷ This rate also applies to: Atlantis International Services Company Ltd., Uttam Galva Steels (BVI) Limited, Uttam Galva Steels, Netherlands B.V., and Uttam Value Steels Limited. In the investigation, Commerce found these companies to be a single entity.

Assessment Rate

Pursuant to section 751(a)(2)(A) of the Act, and 19 CFR 351.212(b), Commerce has determined, and CBP shall assess, antidumping duties on all appropriate entries of subject merchandise in accordance with the final results of this review. Commerce shall instruct CBP to apply an ad valorem assessment rate of 71.09 percent to all entries of subject merchandise during the POR which were produced and/or exported by Uttam Galva.

We intend to issue instructions to CBP 15 days after the publication date of the final results of this review.

Cash Deposit Requirements

The following cash deposit requirements will be effective upon publication of the notice of final results of administrative review for all shipments of the subject merchandise entered, or withdrawn from warehouse, for consumption on or after the publication date of the final results of this administrative review, as provided by section 751(a)(2)(C) of the Act: (1) The cash deposit rate for Uttam Galva will be the rate established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other manufacturers or exporters will continue to be 0.00 percent, the all-others rate established in the investigation.⁸ These cash deposit requirements, when imposed, shall remain in effect until further notice.

⁸ See Certain Corrosion-Resistant Steel Products from India, Italy, the People's Republic of Korea and Taiwan: Amended Final Affirmative Antidumping Determination for India and Taiwan, and Antidumping Duty Orders, 81 FR 48390, 48393 (July 25, 2016).

Notification to Importers

This notice also serves as a final reminder to importers of their responsibility under 19 CFR 351.402(f)(2) to file a certificate regarding the reimbursement of antidumping duties prior to liquidation of the relevant entries during this POR. Failure to comply with this requirement could result in the Secretary's presumption that reimbursement of antidumping and/or countervailing duties occurred and the subsequent assessment of doubled antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: June 3, 2019.
Jeffrey I. Kessler,
Assistant Secretary for Enforcement and Compliance.

Appendix

List of Topics Discussed in the Final Decision Memorandum

I. Summary

II. List of Comments

III. Background

IV. Scope of the Order

V. Determination of No Shipments

VI. Discussion of the Issue

Comment: AFA Rate Applied to Uttam Galva

VII. Recommendation

[FR Doc. 2019-12148 Filed 6-7-19; 8:45 am]

BILLING CODE 3510-DS-P